DEPARTMENT OF THE INTERIOR

Fish and Wildlife Service

[FWS-R4-R-2011-N267; FXRS12650400000-123-FF04R02000]

White River National Wildlife Refuge, AR; Final Comprehensive Conservation Plan and Finding of No Significant Impact for Environmental Assessment

AGENCY: Fish and Wildlife Service, Interior.

ACTION: Notice of availability.

SUMMARY: We, the Fish and Wildlife Service (Service), announce the availability of our final comprehensive conservation plan (CCP) and finding of no significant impact (FONSI) for the environmental assessment for White River National Wildlife Refuge (NWR) in Desha, Monroe, Phillips, and Arkansas Counties, AR. In the final CCP, we describe how we will manage this refuge for the next 15 years.

ADDRESSES: You may obtain a copy of the CCP by writing to: Mr. Dennis Sharp, Refuge Manager, White River NWR, 57 CC Camp Road, St. Charles, AR 72140. Alternatively, you may download the document from our Internet Site: http://southeast.fws.gov/planning under “Final Documents.”

FOR FURTHER INFORMATION CONTACT: Mr. Mike Dawson, Refuge Planner, Jackson, MS, at 601/955-1518 (telephone), or mike_dawson@fws.gov (email).

SUPPLEMENTARY INFORMATION:

Introduction

With this notice, we finalize the CCP process for White River NWR. We started this process through a notice in the Federal Register on January 21, 2009 (74 FR 3628). For more about the process, see that notice.

White River Migratory Waterfowl Refuge was established by Executive Order 7173 of President Franklin D. Roosevelt on September 5, 1935. The purpose of the refuge is to protect and conserve migratory birds and other wildlife resources. White River NWR contains 160,000 acres and 90 miles of the White River lie within the boundaries of the refuge.

We announce our decision and the availability of the final CCP and FONSI for White River NWR in accordance with the National Environmental Policy Act (NEPA) (40 CFR 1506.6(b)) requirements. We completed a thorough analysis of impacts on the human environment, which we included in the draft comprehensive conservation plan and environmental assessment (Draft CCP/EA).

The CCP will guide us in managing and administering White River NWR for the next 15 years. Alternative C, as we described in the final CCP, is the foundation for the CCP.

The compatibility determinations for the following can be found in the final CCP: (1) Hunting, (2) fishing, (3) wildlife observation and photography, (4) environmental education and interpretation, (5) amateur ham radio operation, (6) camping, (7) commercial guiding for wildlife observation and photography, (8) commercial video and photography, (9) commercial waterfowl guiding, (10) commercial fishing, (11) cooperative farming, (12) field trials, (13) forest products harvesting, (14) furbearer trapping, (15) haying, (16) nuisance animal control, (17) research and monitoring, and (18) tournament fishing.

Background

The CCP Process

The National Wildlife Refuge System Administration Act of 1966 (16 U.S.C. 668dd-668ee) (Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every15 years in accordance with the Administration Act.

Comments

Approximately 100 copies of the Draft CCP/EA were made available for a 30-day public review and comment period via a Federal Register notice on October 14, 2011 (76 FR 63945). Fifty seven public comments and two agency comments were received.

Selected Alternative

After considering the comments we received and based on our professional judgment, we selected Alternative C for implementation. This alternative is judged to be the most effective management action for meeting the purposes of the refuge by optimizing habitat management and visitor services throughout the refuge. Over the life of the CCP, this management action will balance an enhanced wildlife management program with increased opportunities for public use on the refuge. This alternative will pursue the same five broad refuge goals as each of the other alternatives described in the Draft CCP/EA.

We selected Alternative C for implementation because it directs the development of programs to best achieve the refuge's purpose and goals; emphasizes a landscape approach to land management; collects habitat and wildlife data; and ensures long-term achievement of refuge and Service objectives. At the same time, its management actions provide balanced levels of compatible public use opportunities consistent with existing laws, Service policies, and sound biological principles. It provides the best mix of program elements to achieve the desired long-term conditions within the anticipated funding and staffing levels, and positively addresses significant issues and concerns expressed by the public.

Authority

This notice is published under the authority of the National Wildlife Refuge System Improvement Act of 1997, Public Law 105-57.

Dated: January 4, 2012.
Mark J. Musaus,
Acting Regional Director.

[FR Doc. 2012-22416 Filed 9-11-12; 8:45 am]

BILLING CODE 4310-55-P